FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Public Law 89-777 (46 App. U.S.C. 817 (e)) and the Federal Maritime Commission's implementing regulations at 46 CFR part 540, as amended:

Corporacion Ferries del Caribe, Inc. (d/b/a Cruceros del Caribe), Calle Concordia, #249 Altos, PO Box 6448, Mayaguez, Puerto Rico 00680, Vessel: Caribbean Express.

Costa Crociere S.p.A. and Costa Cruise Lines N.V., 200 S. Park Road, Suite 200, Hollywood, FL 33021-8541, Vessel: Costa Mediterranea.

Holland America Line Inc. (d/b/a Holland America Line), Holland America Line N.V. and HAL Antillen N.V., 300 Elliott Avenue West, Seattle, WA 98119, Vessels: Amsterdam, Noordam, Oosterdam, Prinsendam, Volendam, Westerdam and Zaandam.

Holland America Line Inc. (d/b/a Holland America Line), Holland America Line N.V. and HAL Nederland N.V., 300 Elliott Avenue West, Seattle, WA 98119, Vessels: Maasdam, Rotterdam, Ryndam and Statendam.

Holland America Line Inc. (d/b/a Holland America Line), HAL Cruises Limited and Wind Surf Limited, 300 Elliott Avenue West, Seattle, WA 98119, Vessel: Veendam.

Holland America Line Inc. (d/b/a Windstar Cruises), Wind Spirit Limited, Windstar Sail Cruises Limited, and HAL Antillen N.V., 300 Elliott Avenue West, Seattle, WA 98119, Vessel: Wind Spirit.

Holland America Line Inc. (d/b/a Windstar Cruises), Wind Surf Limited, Windstar Sail Cruises Limited, and HAL Antillen N.V., 300 Elliott Avenue West, Seattle, WA 98119, Vessel: Wind Surf.

Norwegian Cruise Line Limited (d/b/a Norwegian Cruise Line), 7665 Corporate Center Drive, Miami, FL 33126, Vessel: Norwegian Crown.

Princess Cruise Lines, Ltd., P & O Princess Cruises International Limited and P & O Princess Cruises plc, 24305 Town Center Drive, Santa Clarita, CA 91355-4999, Vessels: Caribbean Princess and Sapphire Princess.

Radisson Seven Seas Cruises, Inc., 600 Corporate Drive, Suite 410, Fort Lauderdale, FL 33334, Vessel: Seven Seas Voyager.

Dated: April 29, 2003.
Bryant L. VanBrakle,
Secretary.

[FR Doc. 03-11087 Filed 5-5-03; 8:45 am]

BILLING CODE 6730-01-P